DEPARTMENT OF TRANSPORTATION

Federal Aviation Administration

14 CFR Part 39

[Docket No. 2000-CE-28-AD]

RIN 2120-AA64

Airworthiness Directives; Fairchild Aircraft, Inc. Models SA226 and SA227 Series Airplanes

AGENCY: Federal Aviation Administration, DOT.

ACTION: Supplemental notice of proposed rulemaking (NPRM); Reopening of the comment period.

SUMMARY: This document proposes to revise an earlier proposed airworthiness directive (AD) that would apply to certain Fairchild Aircraft SA226 and SA227 series airplanes. The earlier NPRM would have required you to replace the brake shuttle valves with parts of improved design and install a shield over the hydraulic lines. The earlier NPRM resulted from a report of a wheel brake system malfunction caused by a faulty brake shuttle valve on an affected airplane. Evaluation of the public comments on the NPRM reveals the need to also include airplanes that have an anti-skid system in the Applicability of the proposed AD. In addition, we are proposing a requirement of replacing the rubber fuel hose with a metal device for the SA226 series airplanes. Since these actions impose an additional burden over that proposed in the NPRM, we are reopening the comment period to allow the public the chance to comment on these additional actions.

DATES: The Federal Aviation Administration (FAA) must receive comments on or before January 11, 2001.

ADDRESSES: Submit comments in triplicate to FAA, Central Region, Office of the Regional Counsel, Attention: Rules Docket No. 2000-CE-28-AD, 901 Locust, Room 506, Kansas City, Missouri 64106. Comments may be inspected at this location between 8 a.m. and 4 p.m., Monday through Friday, holidays excepted.

Service information that applies to the proposed AD may be obtained from Fairchild Aircraft, Inc., P.O. Box 790490, San Antonio, Texas 78279-0490; telephone: (210) 824-9421; facsimile: (210) 820-8609. This information also may be examined at the Rules Docket at the address above.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Comments Invited

How Do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There Any Specific Portions of the Proposed AD I Should Pay Attention to?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2000-CE-28-AD.” We will date stamp and mail the postcard back to you.

Discussion

What Events Have Caused This Proposed AD?

The FAA received a report of an accident involving a Fairchild Model SA226-TC airplane where the flight crew lost control of the airplane at low altitude during the final approach for landing. Prior to the accident, the flight crew reported a loss of hydraulic pressure and a fire on the left side of the airplane.

Investigation of this accident indicates the following:

—The flight crew applied right rudder power during the takeoff roll to compensate for a dragging and overheated left wheel brake and then raised the landing gear into the wheel wells;

—The overheated left wheel brake ignited the tires and the hydraulic fluid; and

—The resultant fire burned the rubber fuel crossover hose and resulted in fuel leakage with a consequent fuel fire.

The accident investigation shows that the brake shuttle valve may have caused the left wheel brake to drag and overheat.

What Are the Consequences if the Condition Is Not Corrected?

Original design brake shuttle valves, if not replaced with improved design valves, could cause the wheel brakes to drag and overheat. This could result in hydraulic or fuel line damage if the overheated brake assembly is retracted into the main wheel wells. A consequent fire could occur if the hydraulic or fuel lines ruptured.

Has FAA Taken Any Action to This Point?

We issued a proposal to amend part 39 of the Federal Aviation Regulations (14 CFR part 39) to include an AD that would apply to certain Fairchild Aircraft SA226 and SA227 series airplanes. This proposal was published in the Federal Register as a notice of proposed rulemaking (NPRM) on August 3, 2000 (65 FR 47701). The NPRM proposed to replace each brake shuttle valve with a part number (P/N) MS28767-4 brake shuttle valve and install a shield over the hydraulic lines.

Was the Public Invited To Comment?

The FAA encouraged interested persons to participate in the making of this amendment. The following presents the comments received on the proposal and FAA's response to each comment:

Comment Issue No. 1: Make the AD Apply to Airplanes Equipped With Anti-Skid Systems

What Is the Commenter's Concern?

One commenter recommends that the proposed AD apply to certain SA226 and SA227 series airplane regardless of whether they are equipped with anti-skid systems. The NPRM proposed to exempt those airplanes with an anti-skid system installed. The commenter states that the related service bulletins recommend the installation of Kevlar blankets around the hydraulic lines for all airplanes so airplanes with anti-skid systems should be included in order to protect the hydraulic lines.

What Is FAA's Response to the Concern?

After re-evaluating all information related to this issue, we concur that the AD action should also apply to airplanes equipped with anti-skid systems.

We are incorporating this change into the proposed rule.

Comment Issue No. 2: Remove all Reference to “Parking Brake Shuttle Valves” From the AD

What Is the Commenter's Concern?

One commenter requests that FAA remove all reference to “parking brake shuttle valves” from the proposed AD because SA226 and SA227 series airplanes do not have such equipment.

What Is FAA's Response to the Concern?

The FAA concurs. The correct terminology is “brake shuttle valves.”

We are incorporating this change into the proposed rule.

Other Information Since Issuance of the NPRM

Is There Additional Information Available on This Subject?

Fairchild Aircraft Service Bulletin No. 226-26-003 specifies replacing the rubber fuel hose with a metal device. When we issued the NPRM, parts were not available for this replacement. Since that time, Fairchild has stocked enough parts for this replacement.

We will now address the fuel hose replacement in the proposed AD.

The FAA's Determination

What Has FAA Decided?

After careful review of all available information related to the subject presented above, we have determined that:

—The AD action should also affect airplanes equipped with anti-skid systems;

—The requirement of replacing the rubber fuel hose with a metal device for the SA226 series airplanes should be added to the proposed AD; and

—AD action should be taken to correct potential brake shuttle valve problems, which could cause the brake assembly to drag and overheat. Hydraulic or fuel line damage could then occur if the overheated brake assembly is retracted into the main wheel well, with a consequent fire if the hydraulic or fuel lines ruptured.

The Supplemental NPRM

How Will the Changes to the NPRM Impact the Public?

Proposing that the NPRM apply to airplanes equipped with anti-skid systems and proposing to require replacement of the rubber fuel hose with a metal device on SA226 series airplanes present actions that go beyond the scope of what was already proposed. Therefore, we are issuing a supplemental NPRM and reopening the comment period to allow the public additional time to comment on the proposed AD.

What Are the Provisions of the Supplemental NPRM?

The proposed AD would require you to:

—Replace the brake shuttle valves with parts of improved design (except on airplanes with an anti-skid/power brake system);

—Install a shield over the hydraulic lines; and

—Replace the rubber fuel hose with a metal device on the SA226 series airplanes.

What Document Should I Use To Accomplish These Actions?

Accomplishment of the proposed actions would be in accordance with the following, as applicable:

Affected pages | Revision level | Date
—Fairchild Aircraft Service Bulletin No. 226-26-003, which incorporates the following pages
1, 2, 4, 6, 8, 9, 10, 11, and 14 | Original Issue | March 1, 2000.
3, 5, 12, and 13 | Revision 1 | June 27, 2000.
7 and 15 | Revision 2 | October 2, 2000.
—Fairchild Aircraft Service Bulletin No. 227-26-002, which incorporates the following pages
1, 2, 8, and 9 | Original Issue | March 1, 2000.
7 | Revision 1 | June 27, 2000.
3, 4, 5, and 6 | Revision 2 | October 2, 2000.

Cost Impact

How Many Airplanes Would the Proposed AD Impact?

The FAA estimates that 2,344 airplanes in the U.S. registry would be affected by the proposed AD.

What Would Be the Cost Impact of the Proposed AD on Owners/Operators of the Affected Airplanes?

We estimate the following costs to accomplish the proposed installations and replacement.

Labor cost | Parts cost | Total cost per airplane
For SA226 Series Airplanes
65 workhours × $60 per hour = $3,900 | $3,431 per airplane | $7,331 per airplane.
For SA227 Series Airplanes
55 workhours × $60 per hour = $3,300 | $1,369 per airplane | $4,669 per airplane.

Compliance Time of the Proposed AD

What Is the Compliance Time of the Proposed AD?

The compliance time of this proposed AD is at whichever of the following that occurs later:

—Within 500 hours time-in-service (TIS) after the effective date of this proposed AD; or

—Within 6 months after the effective date of this proposed AD.

Why Is the Compliance Time of the Proposed AD Presented in Both Hours TIS and Calendar Time?

The affected airplanes are used in both general aviation and commuter operations. Those commuter operators may accumulate 500 hours TIS on the airplane in less than 2 months and many owners have numerous affected airplanes in their fleets. We have determined that the dual compliance time:

—Gives all owners/operators of the affected airplanes adequate time to schedule and accomplish the actions in this proposed AD; and

—Assures that the unsafe condition referenced in this AD will be corrected within a reasonable time period without inadvertently grounding any of the affected airplanes.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

The FAA has determined that the proposed action (1) is not a “significant regulatory action” under Executive Order 12866; (2) is not a “significant rule” under DOT Regulatory Policies and Procedures (44 FR 11034, February 26, 1979); and (3) if adopted, will not have a significant economic impact on a substantial number of small entities under the criteria of the Regulatory Flexibility Act. We have placed a copy of the draft regulatory evaluation prepared for this action in the Rules Docket. You may obtain a copy of it at the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

Fairchild Aircraft, Inc.: Docket No. 2000-CE-28-AD

(a) What airplanes are affected by this AD? The following airplane models and serial numbers that are certificated in any category;

Model | Serial Nos.
SA226-T | T201 through T248
SA226-T(A) | T(A)249 through T(A)-291
SA226-T(B) | T(B) 276 and T(B) 292 through T(B) 417
SA226-AT | AT001 through AT074
SA226-TC | TC201 through TC419
SA227-TT | TT421 through TT555
SA227-TT(300) | TT447, TT465, TT471, TT483, TT512, TT518, TT521, TT527, TT529, and 536
SA227-AT | AT421, AT423 through AT631, and AT695
SA227-AC | AC406, AC415, AC416, and AC420 through AC599

(b) Who must comply with this AD? Anyone who wishes to operate any of the above airplanes must comply with this AD. The AD applies to any airplane with or without an anti-skid/power brake system installed.

(c) What problem does this AD address? The actions specified by this AD are intended to correct potential brake shuttle valve problems, which could cause the brake assembly to drag and overheat. Hydraulic or fuel line damage could then occur if the overheated brake assembly is retracted into the main wheel well, with a consequent fire if the hydraulic or fuel lines ruptured.

(d) What actions must I accomplish to address this problem? To address this problem, you must accomplish the following:

Actions | Compliance | Procedures
(1) For all affected airplanes except those equipped with an anti-skid/power brake system, replace each brake shuttle valve with part number (P/N) MS28767-4 brake shuttle valve (or FAA-approved equivalent part number) | Within 500 hours time-in-service (TIS) after the effective date of this AD or within 6 months after the effective date of this AD, whichever occurs later | In accordance with the ACCOMPLISHMENT INSTRUCTIONS section of Fairchild Aircraft Service Bulletin No. 226-26-003, or Fairchild Aircraft Service Bulletin No. 227-26-002, as applicable.
(2) For all affected airplanes, install a shield over the hydraulic lines | Within 500 hours time-in-service (TIS) after the effective date of this AD or within 6 months after the effective date of this AD, whichever occurs later | In accordance with the ACCOMPLISHMENT INSTRUCTIONS section of Fairchild Aircraft Service Bulletin No. 226-26-003, or Fairchild Aircraft Service Bulletin No. 227-26-002, as applicable.
(3) For all airplane models within the SA226 series, replace the rubber fuel hose with a metal device | Within 500 hours time-in-service (TIS) after the effective date of this AD or within 6 months after the effective date of this AD, whichever occurs later | In accordance with the ACCOMPLISHMENT INSTRUCTIONS section of Fairchild Aircraft Service Bulletin No. 226-26-003.
(4) Do not install any brake shuttle valve that is not a P/N MS28767-4 brake shuttle valve (or FAA-approved equivalent part number) or a fuel hose that is made out of rubber | As of the effective date of this AD | Not Applicable.

(e) Can I utilize different revisions to the affected service bulletins? The service bulletins required to accomplish this action incorporate the following pages:

Affected pages | Revision level | Date
(1) Fairchild Aircraft Service Bulletin No. 226-26-003
1, 2, 4, 6, 8, 9, 10, 11, and 14 | Original Issue | March 1, 2000.
3, 5, 12, and 13 | Revision 1 | June 27, 2000.
7 and 15 | Revision 2 | October 2, 2000.
(2) Fairchild Aircraft Service Bulletin No. 227-26-002
1, 2, 8, and 9 | Original Issue | March 1, 2000.
7 | Revision 1 | June 27, 2000.
3, 4, 5, and 6 | Revision 2 | October 2, 2000.

(f) Can I comply with this AD in any other way? You may use an alternative method of compliance or adjust the compliance time if:

(1) Your alternative method of compliance provides an equivalent level of safety; and

(2) The Manager, Fort Worth Airplane Certification Office, approves your alternative. Submit your request through an FAA Principal Maintenance Inspector, who may add comments and then send it to the Manager.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact the Fort Worth Airplane Certification Office, 2601 Meacham Boulevard, Fort Worth, Texas 76193-0150; telephone: (817) 222-5133; facsimile: (817) 222-5960.

(h) What if I need to fly the airplane to another location to comply with this AD? The FAA can issue a special flight permit under §§ 21.197 and 21.199 of the Federal Aviation Regulations (14 CFR 21.197 and 21.199) to operate your airplane to a location where you can accomplish the requirements of this AD.

(i) How do I get copies of the documents referenced in this AD? You may obtain copies of the documents referenced in this AD from Fairchild Aircraft, Inc., P.O. Box 790490, San Antonio, Texas 78279-0490. You may examine these documents at FAA, Central Region, Office of the Regional Counsel, 901 Locust, Room 506, Kansas City, Missouri 64106.

Issued in Kansas City, Missouri, on November 28, 2000.
William J. Timberlake,
Acting Manager, Small Airplane Directorate, Aircraft Certification Service.

[FR Doc. 00-30948 Filed 12-4-00; 8:45 am]

BILLING CODE 4910-13-U